DEPARTMENT OF LABOR

Employment and Training Administration

[TA-W-56,281]

BASF Corp., Morganton Liquid Plant, Morganton, NC; Notice of Termination of Investigation

Pursuant to section 221 of the Trade Act of 1974, as amended, an investigation was initiated on January 3, 2005, in response to a petition filed by a company official on behalf of workers at BASF Crop., Morganton Liquid Plant, Morganton, North Carolina.

The petitioner has requested that the petition be withdrawn. Consequently, further investigation would serve no purpose and the investigation has been terminated.

Signed in Washington, DC this 6th day of January, 2005.
Linda G. Poole,
Certifying Officer, Division of Trade Adjustment Assistance.

[FR Doc. E5-491 Filed 2-7-05; 8:45 am]

BILLING CODE 4510-30-P